DEPARTMENT OF HEALTH AND HUMAN SERVICES

Centers for Disease Control and Prevention

[60Day-01-38]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Data Collection, Management, Reporting, and Evaluation for the National Minority AIDS Initiative (NMAI) to be conducted from 2001 to 2005—New—National Center for HIV, STD, and TB Prevention (NCHSTP), Centers for Disease Control and Prevention (CDC). The purpose of this request is to obtain OMB clearance to collect primary and secondary data to assess the HIV prevention and capacity-building activities of community-based organizations (CBOs) and other not-for-profit organizations funded under the NMAI. The objective of the NMAI is to implement an approach to HIV Prevention for communities of color through three strategies: Support of CBOs to deliver HIV prevention services; community coalition development projects to increase access to a linked network of HIV, STD, TB, and substance abuse services; and capacity-building assistance (CBA) (which includes a Faith-Based component) to sustain, improve, and expand HIV prevention services.

The CDC requires NMAI grantees to evaluate their programs. CDC has the responsibility to support these evaluation efforts by assisting grantees in the design and implementation of their program evaluation activities, including the provision of evaluation forms and conducting an overall evaluation of the NMAI. The data collected during this evaluation will allow CDC to (1) address accountability needs, (2) provide necessary information to the NMAI grantees for improving their programs, and (3) provide a context for understanding the effectiveness of programs targeting African Americans and other racial and ethnic minorities.

Data collection will include self-administered questionnaires, document reviews, and interviews with directors of CBOs (or their representatives) and other collaborating organizations. The first phase of data collection is planned for the fall of 2001. Subsequent phases of data collection are planned for 2002, 2003, and 2004, with data collection culminating by the summer of 2005. Self-administered questionnaires will be submitted annually. Interviews will be conducted at 24, 36, and 48 months from the start of the project. The total cost to respondents is estimated at $30,080, assuming an average working wage for assigned personnel at $20.00 per hour in the study period.

Respondents | Number of respondents | Number of responses per respondent | Average burden response (in hrs.) | Total burden per response (in hrs.)
CBO General Questionnaire | 79 | 4 | 1 | 316
CBO Needs Assessment & Epi Profile Questionnaire | 79 | 4 | 20/60 | 105
CBO Staffing Plan Questionnaire | 79 | 4 | 40/60 | 211
CBO Cultural, Linguistic, and Educational Appropriateness Questionnaire | 79 | 4 | 10/60 | 53
CBO Interview Schedule | 79 | 3 | 2 | 474
CBA Program Plan | 16 | 4 | 15/60 | 16
CBA Needs Assessment Questionnaire | 16 | 4 | 20/60 | 21
CBA Staffing Plan Questionnaire | 16 | 4 | 40/60 | 43
CBA Cultural, Linguistic, and Educational Appropriateness Questionnaire | 16 | 4 | 10/60 | 11
CBA Resource Networks and Community Advisory Board Questionnaire | 16 | 4 | 20/60 | 21
Provision of Capacity-Building Assistance Questionnaire | 16 | 4 | 2 | 128
CBA Interview Schedule | 16 | 3 | 2 | 96
Faith-Based Needs Assessment Questionnaire | 1 | 4 | 20/60 | 1
Faith-Based General Questionnaire | 1 | 1 | 1 | 1
Faith-Based Staffing Plan Questionnaire | 1 | 4 | 40/60 | 3
Faith-Based Cultural, Linguistic, and Educational Appropriateness Questionnaire | 1 | 4 | 10/60 | 1
Faith-Based Curriculum Development and Training Program Interview Schedule | 1 | 3 | 1 | 3
Total |  |  |  | 1504

Dated: May 11, 2001.
Nancy Cheal,
Acting Associate Director for Policy, Planning and Evaluation, Centers for Disease Control and Prevention.

[FR Doc. 01-13320 Filed 5-25-01; 8:45 am]

BILLING CODE 4163-18-P